Proclamation 9207 of October 31, 2014

National Native American Heritage Month, 2014

By the President of the United States of America

A Proclamation

Every year, our Nation pauses to reflect on the profound ways the First Americans have shaped our country's character and culture. The first stewards of our environment, early voices for the values that define our Nation, and models of government to our Founding Fathers—American Indians and Alaska Natives helped build the very fabric of America. Today, their spirit and many contributions continue to enrich our communities and strengthen our country. During National Native American Heritage Month, we honor their legacy, and we recommit to strengthening our nation-to-nation partnerships.

As we celebrate the rich traditions of the original peoples of what is now the United States, we cannot forget the long and unfortunate chapters of violence, discrimination, and deprivation they had to endure. For far too long, the heritage we honor today was disrespected and devalued, and Native Americans were told their land, religion, and language were not theirs to keep. We cannot ignore these events or erase their consequences for Native peoples—but as we work together to forge a brighter future, the lessons of our past can help reaffirm the principles that guide our Nation today.

In a spirit of true partnership and mutual trust, my Administration is committed to respecting the sovereignty of tribal nations and upholding our treaty obligations, which honor our nation-to-nation relationship of peace and friendship over the centuries. We have worked to fairly settle longstanding legal disputes and provide justice to those who experienced discrimination. We have taken unprecedented steps to strengthen tribal courts, especially when it comes to criminal sentencing and prosecuting individuals who commit violence against Native American women. And next month, my Administration will host our sixth annual White House Tribal Nations Conference, part of our ongoing effort to promote meaningful collaboration with tribal leaders as we fight to give all our children the tomorrow they deserve.

Today, as community and tribal leaders, members of our Armed Forces, and drivers of progress and economic growth, American Indians and Alaska Natives are working to carry forward their proud history, and my Administration is dedicated to expanding pathways to success for Native Americans. To increase opportunity in Indian Country, we are investing in roads and high-speed Internet and supporting job training and tribal colleges and universities. The Affordable Care Act provides access to quality, affordable health insurance, and it permanently reauthorized the Indian Health Care Improvement Act, which provides care to many Native Americans. And because the health of tribal nations depends on the health of tribal lands, my Administration is partnering with Native American leaders to protect these lands in a changing climate.

Every American, including every Native American, deserves the chance to work hard and get ahead. This month, we recognize the limitless potential of our tribal nations, and we continue our work to build a world where all people are valued and no child ever has to wonder if he or she has a place in our society.

NOW, THEREFORE, I, BARACK OBAMA, President of the United States of America, by virtue of the authority vested in me by the Constitution and the laws of the United States, do hereby proclaim November 2014 as National Native American Heritage Month. I call upon all Americans to commemorate this month with appropriate programs and activities, and to celebrate November 28, 2014, as Native American Heritage Day.

IN WITNESS WHEREOF, I have hereunto set my hand this thirty-first day of October, in the year of our Lord two thousand fourteen, and of the Independence of the United States of America the two hundred and thirty-ninth.

[FR Doc. 2014-26496

Filed 11-5-14; 8:45 am]

Billing code 3295-F5